DEPARTMENT OF THE INTERIOR

Bureau of Land Management

[14XL LLWY9200000.L51010000.ER0000.LVRWK09K0990.241A.00; 4500069121; IDI-35849]

Notice of Intent To Prepare a Supplemental Environmental Impact Statement and Possible Land Use Plan Amendments for Segments 8 and 9 of the Gateway West 500-kV Transmission Line Project in Idaho

AGENCY: Bureau of Land Management, Interior.

ACTION: Notice.

SUMMARY: The Bureau of Land Management (BLM) Idaho State Office announces its intention to prepare a supplemental environmental impact statement (EIS) analyzing the potential impacts of approving a right-of-way (ROW) application for Segments 8 and 9 of the Gateway West 500-kilovolt (kV) Transmission Line Project and possible land use plan amendments. The supplemental EIS will be prepared in accordance with the National Environmental Policy Act of 1969, as amended (NEPA). The supplemental EIS is being prepared based on new information described in the SUPPLEMENTARY INFORMATION section of this notice. The BLM issued a Record of Decision (ROD) for the project on November 14, 2013. In that ROD, the BLM deferred offering a ROW grant for two of the 10 segments—Segments 8 and 9—to allow additional time for Federal, State, and local permitting agencies to examine additional options regarding siting route segments and mitigation and enhancement measures for those segments.

DATES: This notice initiates a 30-day public scoping period that will assist in the preparation of a draft supplemental EIS. Comments may be submitted in writing until October 20, 2014, or 15 days after the date of the last public scoping meeting, whichever is later.

To provide the public an opportunity to review the proposal and project information, the BLM expects to hold four public meetings in Idaho communities during the scoping period. The BLM will announce the exact dates, times, and locations for these meetings at least 15 days prior to each event. Announcements will be made by news release to the media, newsletter mailings, and posting on the project Web site listed below.

ADDRESSES: You may submit comments or resource information related to the project by any of the following methods:

• Web site: http://www.blm.gov/id/st/en/prog/nepa_register/gateway-west.html

• Email: blm_id_gateway_west@blm.gov

• Mail: Bureau of Land Management Idaho State Office, Gateway West Transmission Project, 1387 South Vinnell Way, Boise, ID 83709

FOR FURTHER INFORMATION CONTACT: Heather Feeney, BLM Boise District Office, 3948 Development Avenue, Boise, ID 83705; phone 208-384-3325; or email to blm_id_gateway_west@blm.gov. Contact Ms. Feeney if you wish to have your name added to the project mailing list. Persons who use a telecommunications device for the deaf (TDD) may call the Federal Information Relay Service (FIRS) at 1-800-877-8339 to contact Ms. Feeney during normal business hours. The FIRS is available 24 hours a day, 7 days a week, to leave a message or question with the above individual. You will receive a reply during normal business hours.

SUPPLEMENTARY INFORMATION: Documents pertinent to this proposal may be examined at:

• Bureau of Land Management, Idaho State Office, Public Room, 1387 South Vinnell Way, Boise, ID 83709, Telephone: 208-373-3863.

• Bureau of Land Management, Boise District Office, 3948 Development Avenue, Boise, ID 83705, Telephone: 208-384-3300.

• Online: http://www.blm.gov/id/st/en/prog/nepa_register/gateway-west.html.

PacifiCorp, dba Rocky Mountain Power, and Idaho Power (Applicants) have submitted a ROW application to locate 500-kilovolt (kV) electric transmission lines on Federal lands as part of the Gateway West Transmission Line Project. The initial application proposed to construct electric transmission lines from the Windstar Substation near the Dave Johnston Power Plant at Glenrock, Wyoming, to the Hemingway Substation near Melba, Idaho, approximately 20 miles southwest of Boise, Idaho. The original project comprised 10 transmission line segments with a total length of approximately 1,000 miles. The November 2013 ROD authorized routes on Federal lands for Segments 1 through 7 and Segment 10 but deferred a decision for Segments 8 and 9. The Applicants submitted a revised project application for Segments 8 and 9. This notice announces that the BLM, Idaho State Office, intends to prepare a supplemental EIS for Segments 8 and 9 of the Gateway West Transmission Line Project and begins the scoping process to seek public input on new issues and resource information related to Segments 8 and 9, described below. Analysis in the supplemental EIS will support a decision on whether to approve, approve with modifications, or deny the revised ROW application for Segments 8 and 9.

In November 2013, the BLM requested the Boise District Resource Advisory Council (RAC) to consider issues surrounding siting Segments 8 and 9 of the Gateway West Transmission Line Project. As proposed, these segments would traverse portions of the BLM Boise District in and around the Morley Nelson Snake River Birds of Prey National Conservation Area (NCA), as well as on private lands. The RAC, a citizen-based council chartered under Section 309 of the Federal Land Policy and Management Act (FLPMA) and the Federal Advisory Committee Act, advises and makes recommendations to the BLM on resource and public land management issues in southwestern Idaho. The RAC formed a subcommittee to examine options for resolving remaining issues associated with siting Segments 8 and 9. On June 5, 2014, the RAC provided the BLM with the report on alternative route options and resource considerations for Segments 8 and 9. On August 8, 2014, the Applicants formally adopted routes recommended by a majority of the subcommittee as their proposed routes for the supplemental EIS in a revised project application that modifies the Applicants' original proposal. These updated proposed routes, a double-circuit design feature (see below), and additional mitigation measures are major components of the new information now available for public scoping.

The Applicants' proposed route for each of the two segments has been modified from the 2013 BLM Preferred Route west of approximate midway points, identified as “nodes” in reports submitted by the RAC. Maps that accompanied the revised project application are available on the BLM project Web site, listed above. For Segment 8, the Applicants' new proposed route still begins at the existing Midpoint Substation and continues west past the communities of Hammett and Mountain Home to the north. However, just north of the town of Orchard, the new proposed route for Segment 8 diverges from the 2013 BLM Preferred Route to generally parallel the existing Summer Lake 500-kV transmission line 250 feet to the south for 5.1 miles before turning northwest, and then crosses the existing line at milepost 7.1.

The new proposed route for Segment 8 enters the NCA at milepost 99. The Applicants have determined that the separation distance between the existing and proposed transmission lines within the NCA could be reduced to approximately 250 feet for a 28.7-mile portion of Segment 8. From milepost 7.1, the new proposed route generally parallels the existing line 250 feet to the north for the remaining distance (30 miles) into the Hemingway Substation, near the town of Melba. The total route length would be 38 miles, of which 22.9 miles would be within the NCA. This route would also require a partial rebuild of approximately 3,000 feet of the existing Summer Lake line. The Applicants propose to use existing roads near and beneath the existing 500-kV transmission line to reduce the overall disturbance footprint of the new line. Rather than constructing a new access road network for the new proposed route for Segment 8, they would use short spur roads from existing roads to access the new towers.

For Segment 9, the Applicants' updated proposed route still starts at the proposed Cedar Hill Substation and passes south of the communities of Twin Falls, Castleford, and Hammett, before diverging from the 2013 BLM Preferred Route just east of the town of Bruneau, and then entering the NCA at milepost 132, north of the towns of Grand View, Oreana, and Murphy before terminating at the Hemingway Substation, near the town of Melba. The Applicants' new proposed route generally follows the Alternative 9G route studied in detail in the 2013 Final EIS. The total route length would be 68.5 miles, of which 53.8 miles would be within the NCA. The updated proposed route for Segment 9 would involve constructing approximately 25.6 miles of new double-circuit 500/138-kV transmission line using steel pole H-frame structures.

The NCA lies in the western portion of the Gateway West project area. The NCA was established under Public Law 103-64, which states: “The purposes for which the conservation area is established, and shall be managed, are to provide for the conservation, protection, and enhancement of raptor populations and habitats and the natural and environmental resources and values associated therewith, and of the scientific, cultural, and educational resources and values of the public lands in the conservation area.”

Following publication of the Notice of Availability for the Gateway West Final EIS on April 26, 2013 (78 FR 24771), the Applicants submitted a draft Mitigation and Enhancement Portfolio (MEP) to the BLM. The MEP contains proposed mitigation, including compensatory mitigation, and other measures intended to enhance resources and values found in the NCA. The Applicants presented the draft MEP to the RAC subcommittee and updated it in response to the subcommittee's final report; the MEP has not yet been formally reviewed by the public. The most current MEP is considered part of the proponent's newly submitted plan of development for analysis in the supplemental EIS and is now being made available during the scoping process as new information for the supplemental EIS. The MEP will be described in detail at the public scoping meetings and is available on the project Web site at http://www.blm.gov/id/st/en/prog/nepa_register/gateway-west.html.

The BLM is the lead Federal agency for the NEPA analysis process and preparation of the supplemental EIS. The State of Idaho, local government entities, and Federal agencies with specialized expertise and/or jurisdictional responsibilities in the area of Segments 8 and 9 will be invited to participate as cooperating agencies.

The purpose of public scoping is to determine relevant issues that will influence the scope of the environmental analysis. The BLM will invite and provide for full public participation and comment on issues, potential impacts, mitigation measures, and alternatives associated with granting ROWs on public lands for segments 8 and 9 that were not addressed in the original EIS. At present, the BLM has identified the following issues and concerns:

• Effects to the objects and values for which the NCA was designated;

• Land use conflicts and inconsistency with land use plans;

• Effects of the project on local and regional socioeconomic conditions;

• Effects on wildlife habitat, plants, and animals, including threatened, endangered, and sensitive species;

• Effects to visual resources and existing viewsheds;

• Effects to historic and cultural resources;

• Effects to Indian trust assets;

• Opportunities to apply mitigation strategies for on-site, regional, and compensatory mitigation; and

• Siting on private lands versus public lands.

If authorized, this proposal may require amendment of one or more BLM land use plans (resource management plans (RMPs) or management framework plans (MFPs)). By this notice, the BLM is complying with requirements outlined in 43 CFR 1610.2(c) that the BLM notify the public of potential amendments to land use plans. If an RMP or MFP amendment is necessary, the BLM will integrate the land use planning process with the NEPA analysis process for this project.

If the ROWs are granted, BLM land use plans that may be amended include the Twin Falls MFP, the Jarbidge RMP, the Morley Nelson Snake River Birds of Prey RMP, the Bennett Hills/Timmerman Hills MFP and the Kuna MFP.

The BLM will supplement the analysis found in the Gateway West Transmission Line Project final environmental impact statement (FEIS) released April 26, 2013, by analyzing the Applicants' updated proposed routes for Segments 8 and 9 and no action alternatives, as well as other possible alternatives to the proposed power line locations and access routes, based on information gathered from the public during scoping. The BLM will use the NEPA process to identify and disclose impacts to the above resources not analyzed in the FEIS and any additional issues or resources found through the scoping process. Further, the BLM will identify opportunities to mitigate the impacts of siting and building Segments 8 and 9, if granted, by incorporating avoidance, minimization, and compensation measures with consideration of local and regional conditions and commensurate with the scope of the impacts. In addition, opportunities for enhancement of objects and values within the NCA will be evaluated, in accordance with Public Law 103-64, the statute which established the NCA.

Preliminary planning criteria for any RMP or MFP amendments include: (1) FLPMA and subsequent BLM land use plans; (2) Public Law 103-64, which established the Snake River Birds of Prey National Conservation Area (officially named the Morley Nelson Snake River Birds of Prey National Conservation Area in Public Law 111-11, the Omnibus Public Lands Management Act of 2009); (3) The Endangered Species Act, as amended and (4) the analysis found in the FEIS.

The BLM encourages comments concerning the Applicants' new proposed routes for Segments 8 and 9, the routes previously analyzed in the FEIS, feasible alternative locations, possible mitigation and enhancement measures, and any other information relevant to the proposed action. You may submit comments in writing to the BLM at any public scoping meeting or at any time by using one of the methods listed in the ADDRESSES section of this notice. Public scoping meetings will be conducted in an “open house” format with the BLM staff and project Applicants available to explain project details and gather information from interested individuals or groups. You should submit comments by the close of the 30-day scoping period or 15 days after the last public meeting, whichever is later.

The BLM will reach out to the consulting parties who participated in and/or signed the Programmatic Agreement (PA) for Segments 1-7, and 10 to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA. The information received will be used to modify the PA to clearly capture the issues and mitigation for Segments 8 and 9.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

All comment submittals must include the commenter's name and street address. Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

Any persons wishing to be added to a mailing list of interested parties can call or write to BLM, as described in this notice. Additional information meetings may be conducted throughout the process to keep the public informed of the progress of the supplemental EIS.

Authority: 40 CFR 1501.7 and 43 CFR 1610.2.

Timothy M. Murphy,
BLM Idaho State Director.

[FR Doc. 2014-22408 Filed 9-18-14; 8:45 am]

BILLING CODE 4310-GG-P